ENVIRONMENTAL PROTECTION AGENCY

[FRL-11560-01-OEJECR;-EPA-HQ-OEJECR-2023-0101]

National Environmental Justice Advisory Council; Notification of Public Meeting

AGENCY: Environmental Protection Agency (EPA).

ACTION: Notification for a public meeting.

SUMMARY: Pursuant to the Federal Advisory Committee Act (FACA), the U.S. Environmental Protection Agency (EPA) hereby provides notice that the National Environmental Justice Advisory Council (NEJAC) will meet on the date and time described below. The meeting is open to the public. For additional information about registering to attend the meeting or to provide public comment, please see “REGISTRATION” under SUPPLEMENTARY INFORMATION. Pre-Registration is required.

DATES: The NEJAC will convene a virtual public meeting on Tuesday, December 5, 2023, at approximately 10 a.m. to 7:30 p.m., Eastern Time. The meeting discussions will focus on several topics including, but not limited to, updates on NEJAC recommendations related to air quality and community monitoring, PFAS, finance and investments and responses to community concerns brought forward in Puerto Rico. A public comment period relevant to current NEJAC charges and recommendations will be considered by the NEJAC at the meeting on Tuesday, December 5, 2023, (see SUPPLEMENTARY INFORMATION). Members of the public who wish to participate during the public comment period must register by 11:59 p.m., Eastern Time, November 28, 2023.

FOR FURTHER INFORMATION CONTACT: Paula Flores-Gregg, NEJAC Designated Federal Officer, U.S. EPA; email: nejac@epa.gov; telephone: (214) 665-8123. Additional information about the NEJAC is available at https://www.epa.gov/environmentaljustice/national-environmental-justice-advisory-council.

SUPPLEMENTARY INFORMATION: The Charter of the NEJAC states that the advisory committee “will provide independent advice and recommendations to the Administrator about broad, cross-cutting issues related to environmental justice. The NEJAC's efforts will include evaluation of a broad range of strategic, scientific, technological, regulatory, community engagement and economic issues related to environmental justice.”

Registration: Individual registration is required for the public meeting. No two individuals can share the same registration link. Information on how to register is located at https://www.epa.gov/environmentaljustice/national-environmental-justice-advisory-council-meetings. Registration to attend the meeting is available through the scheduled meeting days. The deadline to sign up to speak during the public comment period will close at 11:59 p.m., Eastern Time, November 28, 2023. When registering, please provide your name, organization, city and state, and email address. Please also indicate whether you would like to provide oral public comment during the meeting, or whether you are submitting written comments at time of registration.

A. Public Comment

The NEJAC is interested in receiving public comments relevant to the following charges:

(1) Cumulative Impacts Framework Charge

(2) Farmworker and Pesticides Charge

Individuals or groups making remarks during the oral public comment period will be limited to three (3) minutes. Please be prepared to briefly describe your comments; including your recommendations on what you want the NEJAC to advise the EPA to do. Submitting written comments for the record are strongly encouraged. You can submit your written comments in three different ways, (1.) by using the webform at https://www.epa.gov/environmentaljustice/forms/national-environmental-justice-advisory-council-nejac-public-comment, (2.) by sending comments via email to nejac@epa.gov and (3.) by creating comments in the Docket ID No. EPA-HQ-OA-2023-0101 at http://www.regulations.gov. Written comments can be submitted through December 19, 2023. More information about the NEJAC's current charges can be found here https://www.epa.gov/environmentaljustice/national-environmental-justice-advisory-council-current-charges.

B. Information About Services for Individuals With Disabilities or Requiring English Language Translation Assistance

For information about access or services for individuals requiring assistance, please contact Paula Flores-Gregg, at (214) 665-8123 or via email at nejac@epa.gov. To request special accommodations for a disability or other assistance, please submit your request at least fourteen (14) working days prior to the meeting, to give EPA sufficient time to process your request. All requests should be sent to the email or phone number listed in the FOR FURTHER INFORMATION CONTACT section.

Matthew Tejada,
Deputy Assistant Administrator for Environmental Justice, Office of Environmental Justice and External Civil Rights.

[FR Doc. 2023-25245 Filed 11-15-23; 8:45 am]

BILLING CODE 6560-50-P